DEPARTMENT OF THE TREASURY

Submission for OMB Review; Comment Request

May 8, 2012.

The Department of the Treasury will submit the following information collection request to the Office of Management and Budget (OMB) for review and clearance in accordance with the Paperwork Reduction Act of 1995, Public Law 104-13, on or after the date of publication of this notice.

DATES: Comments should be received on or before June 13, 2012 to be assured of consideration.

ADDRESSES: Send comments regarding the burden estimate, or any other aspect of the information collection, including suggestion for reducing the burden, to the (1) Office of Information and Regulatory Affairs, Office of Management and Budget, Attention: Desk Officer for Treasury, New Executive Office Building, Room 10235, Washington, DC 20503, or email at OIRA_Submission@OMB.EOP.GOV and to the (2) Treasury PRA Clearance Officer, 1750 Pennsylvania Ave. NW., Suite 8140, Washington, DC 20220, or on-line at www.PRAComment.gov.

FOR FURTHER INFORMATION CONTACT: Copies of the submission(s) may be obtained by calling (202) 927-5331, email at PRA@treasury.gov, or the entire information collection request maybe found at www.reginfo.gov.

Alcohol and Tobacco Tax and Trade Bureau (TTB)

OMB Number: 1513-0111.

Type of Review: Extension without change of a currently approved collection.

Title: COLAs Online Access Request.

Form: TTB F 5013.2.

Abstract: The information on this form will be used by TTB to authenticate end users of the system to electronically file Certificates of Label Approval (COLAs). The system will authenticate end users by comparing information submitted to records in multiple databases.

Affected Public: Private Sector: Businesses or other for-profits.

Estimated Total Burden Hours: 410.

OMB Number: 1513-0118.

Type of Review: Extension without change of a currently approved collection.

Title: Formulas for Fomented Beverage Products.

Abstract: Formula information is necessary to protect the public and collect revenue. Brewers must submit written notices to obtain formula approval.

Affected Public: Private Sector: Businesses or other for-profits.

Estimated Total Burden Hours: 500.

Dawn D. Wolfgang,
Treasury PRA Clearance Officer.

[FR Doc. 2012-11520 Filed 5-11-12; 8:45 am]

BILLING CODE 4810-31-P